ENVIRONMENTAL PROTECTION AGENCY

[FRL-9928-73-OA]

Notification of Teleconferences and a Public Meeting of the Science Advisory Board Hydraulic Fracturing Research Advisory Panel

AGENCY: Environmental Protection Agency (EPA).

ACTION: Notice.

SUMMARY: The EPA Science Advisory Board (SAB) Staff Office announces a public meeting and three teleconferences of the SAB Hydraulic Fracturing Research Advisory Panel to conduct a review of the EPA draft report, Assessment of the Potential Impacts of Hydraulic Fracturing for Oil and Gas on Drinking Water Resources, (May, 2015 External Review Draft, EPA/600/R-15/047).

DATES: The public teleconferences will be held from 12 p.m. to 5 p.m. (Eastern Time) on the following dates: Wednesday September 30, 2015; Thursday October 1, 2015; and Monday October 19, 2015. The public face-to-face meeting will be held on Wednesday October 28, 2015 from 9 a.m. to 5:30 p.m., Thursday October 29, 2015 from 8:30 a.m. to 5:30 p.m., and Friday October 30, 2015 from 8:30 a.m. to 3 p.m. (Eastern Time).

ADDRESSES: The October 28 through 30, 2015 public meeting will be held at the Washington Plaza Hotel, 10 Thomas Circle NW., Washington, DC 20005. Teleconference lines also will be available for members of the public unable to attend in person.

FOR FURTHER INFORMATION CONTACT: Members of the public who wish to obtain further information regarding these public meetings may contact Edward Hanlon, Designated Federal Officer, by telephone: (202) 564-2134 or email at hanlon.edward@epa.gov. The SAB mailing address is: U.S. EPA Science Advisory Board (1400R), U.S. Environmental Protection Agency, 1200 Pennsylvania Avenue NW., Washington, DC 20460. General information about the SAB, including information concerning the SAB meeting and teleconferences announced in this notice, may be found on the SAB Web site at http://www.epa.gov/sab.

Technical Contact for EPA's Draft Report: Any technical questions concerning EPA's draft report should be directed to Dr. Jeffrey Frithsen, National Center for Environmental Assessment, Office of Research and Development, U.S. EPA, 1200 Pennsylvania Avenue NW., Mail Code 8601P, Washington, DC 20460, telephone (703) 347-8623 or via email at frithsen.jeff@epa.gov.

SUPPLEMENTARY INFORMATION:

Background: The SAB was established pursuant to the Environmental Research, Development, and Demonstration Authorization Act (ERDDAA), codified at 42 U.S.C. 4365, to provide independent scientific and technical advice to the Administrator on the technical basis for Agency positions and regulations. The SAB is a Federal Advisory Committee chartered under the Federal Advisory Committee Act (FACA), 5 U.S.C., App. 2. The SAB will comply with the provisions of FACA and all appropriate SAB Staff Office procedural policies. Pursuant to FACA and EPA policy, notice is hereby given that the SAB Hydraulic Fracturing Research Advisory Panel will hold a public meeting and three teleconferences to conduct a review of the EPA draft report, Assessment of the Potential Impacts of Hydraulic Fracturing for Oil and Gas on Drinking Water Resources, (May, 2015 External Review Draft, EPA/600/R-15/047).

The EPA's Office of Research and Development (ORD) has developed a draft assessment report concerning the relationship between hydraulic fracturing and drinking water in the United States. The purpose of the report, Assessment of the Potential Impacts of Hydraulic Fracturing for Oil and Gas on Drinking Water Resources, (May, 2015 External Review Draft, EPA/600/R-15/047), is to synthesize available scientific literature and data to assess the potential for hydraulic fracturing for oil and gas to impact the quality or quantity of drinking water resources, and identify factors affecting the frequency or severity of any potential impacts.

The SAB will hold teleconferences and a panel meeting as part of the peer review of the EPA draft assessment report. (1) The purpose of the teleconference on September 30, 2015 is for EPA to brief the Panel about the agency's draft report, Assessment of the Potential Impacts of Hydraulic Fracturing for Oil and Gas on Drinking Water Resources, (May, 2015 External Review Draft, EPA/600/R-15/047) and hold a Panel discussion on the draft charge questions for the peer review of the agency's draft report. If all oral comments from registered public speakers cannot be accommodated at the September 30, 2015 teleconference, an additional teleconference will be held on October 1, 2015, for that purpose. (2) The purpose of the October 28-30, 2015 face-to-face meeting is to conduct a peer review of the agency's draft report. If the SAB Staff Office determines that there will be insufficient time during the October 28-30, 2015 Panel meeting to accommodate the members of the public who registered in advance to provide oral public comments, the teleconference on October 19, 2015 will be held to provide additional time for oral public comments.

All draft reports developed by SAB panels, committees or workgroups are reviewed and approved by the Chartered SAB through a quality review process before being finalized and transmitted to the EPA Administrator. The quality reviews are conducted in a public meeting as required by FACA. Additional opportunities for the public to provide comments on the SAB's review of the agency's draft report, Assessment of the Potential Impacts of Hydraulic Fracturing for Oil and Gas on Drinking Water Resources, (May, 2015 External Review Draft, EPA/600/R-15/047) will be provided in a separate Federal Register Notice announcing public meetings to discuss the draft Panel report.

Availability of Meeting Materials: The draft EPA report, Assessment of the Potential Impacts of Hydraulic Fracturing for Oil and Gas on Drinking Water Resources, (May, 2015 External Review Draft, EPA/600/R-15/047), is available on the SAB Web site at http://yosemite.epa.gov/sab/sabproduct.nsf/fedrgstr_activites/HF%20Drinking%20Water%20Assessment?OpenDocument. The charge, agenda and other materials for the teleconferences and meeting described in this notice will also be available on the above-noted Web site address and on the SAB Web site at http://www.epa.gov/sab in advance of the teleconferences and meeting.

Procedures for Providing Public Input: Federal advisory committees and panels, including scientific advisory committees, provide independent advice to the EPA. Interested members of the public may submit relevant information on the topic of this advisory activity, and/or the group conducting the activity, for the SAB to consider during the advisory process. Input from the public to the SAB will have the most impact if it provides specific scientific or technical information or analysis for SAB committees and panels to consider or if it relates to the clarity or accuracy of the technical information.

Throughout the Panel review process, there will be several opportunities for the public to provide comments. For example, the public will have opportunity to provide comments to the Docket on the SAB Panel's draft report, provide oral statements to the Panel during the Panel teleconferences and meeting, and in preparation for quality review of the SAB Panel's draft report by the Chartered SAB. Members of the public wishing to provide written comments may submit them to the EPA Docket electronically via www.regulations.gov, by email, by mail, by facsimile, or by hand delivery/courier. Please follow the detailed instructions provided in the written statements section of this notice. Members of the public wishing to provide oral statements to the SAB Panel should contact the DFO directly.

Oral Statements: In general, individuals or groups requesting to present an oral statement at a public teleconference will be limited to three minutes per speaker. To be placed on the public speaker list for the September 30, 2015 teleconference, interested parties should notify Mr. Edward Hanlon, DFO, by email no later than September 23, 2015. In general, individuals or groups requesting to present an oral statement at the face-to-face public meeting will be limited to five minutes. Interested parties should contact Mr. Edward Hanlon, DFO, in writing (preferably via email) at the contact information noted above by October 13, 2015 to be placed on the list of public speakers for the October 28-30, 2015 meeting.

Written Statements: SAB Staff Office anticipates that a large number of written statements will be submitted for consideration by the SAB Panel. Therefore, written statements for the September 30, 2015 teleconference and for the October 28-30, 2015 face-to-face meeting should be received in the EPA Docket by August 28, 2015, so that the information may be made available to the SAB Panel sufficiently in advance of the teleconferences and meeting for the Panel's consideration.

Written statements should be identified by Docket ID No. EPA-HQ-OA-2015-0245 and submitted to the Docket at www.regulations.gov by one of the following methods:

• www.regulations.gov: Follow the on-line instructions for submitting comments.

• Email: Docket_OEI@epa.gov: Include the docket number in the subject line of the message.

• Mail: Office of Environmental Information (OEI) Docket (Mail Code: 28221T), Docket ID No. EPA-HQ-OA-2015-0245, U.S. Environmental Protection Agency, 1200 Pennsylvania Ave. NW., Washington, DC 20460. The phone number is (202) 566-1752.

• Hand Delivery: The OEI Docket is located in the EPA headquarters Docket Center, Room 3334, EPA West Building, 1301 Constitution Ave. NW., Washington, DC. The EPA Docket Center Public Reading Room is open from 8:30 a.m. to 4:30 p.m., Monday through Friday, excluding legal holidays. The telephone number for the Public Reading Room is (202) 566-1744. Deliveries are only accepted during the docket's normal hours of operation, and special arrangements should be made for deliveries of boxed information.

• Fax: (202) 566-9744.

Public comments submitted after August 28, 2015 will be marked late, and should be submitted to the Docket by email, mail, hand delivery or fax (see detailed instructions above). Consistent with SAB Staff Office general practice, comments received after August 28, 2015 will be made available to the SAB Panel as soon as practicable.

It is EPA's policy to include all comments received in the public docket without change and to make the comments available on-line at www.regulations.gov, including any personal information provided, unless a comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email directly to EPA without going through www.regulations.gov, your email address will be automatically captured and included as part of the comment that is placed in the public docket and made available on the Internet. If you submit an electronic comment, EPA recommends that you include your name and other contact information in the body of your comment and with any disk or CD-ROM you submit. If EPA cannot read your comments due to technical difficulties and cannot contact you for clarification, the SAB Panel may not be able to consider your comments. Electronic files should avoid the use of special characters and any form of encryption and be free of any defects or viruses. For additional information about EPA's public docket, visit the EPA Docket Center homepage at www.epa.gov/epahome/dockets.htm.

Documents in the docket are listed in the www.regulations.gov index. Although listed in the index, some information is not publicly available, e.g., CBI or other information whose disclosure is restricted by statute. Certain other material, such as copyrighted material will be publicly available only in hard copy. Publicly available docket materials are available either electronically at www.regulations.gov or in hard copy at the OEI Docket in the EPA Headquarters Docket Center.

History of SAB Hydraulic Fracturing Research Advisory Panel: In April 2012, the EPA's Office of Research and Development asked the SAB to conduct a peer review and provide advice to the agency on the scientific quality of its research study report on the potential impacts of hydraulic fracturing on drinking water resources. In response to that request, the SAB Staff Office formed the SAB Hydraulic Fracturing Research Advisory Panel. In 2013 the SAB panel members provided their individual expert comments in response to charge questions relating to the December 2012 progress report entitled, Study of the Potential Impacts of Hydraulic Fracturing on Drinking Water Resources: Progress Report. The panel also held a teleconference call in 2013 to receive public comments on new and emerging information related to hydraulic fracturing and drinking water resources. Information on the formation of the panel and its previous activities is provided on the SAB Web site at http://yosemite.epa.gov/sab/sabproduct.nsf/fedrgstr_activites/HF%20and%20DW%20Progress%20Report?OpenDocument.

Accessibility: For information on access or services for individuals with disabilities, please contact Mr. Edward Hanlon at the phone number or email address noted above, preferably at least ten days prior to the meeting to give EPA as much time as possible to process your request.

Dated: June 1, 2015.
Thomas H. Brennan,
Deputy Director, EPA Science Advisory Board Staff Office.

[FR Doc. 2015-13674 Filed 6-4-15; 8:45 am]

BILLING CODE 6560-50-P